DEPARTMENT OF THE INTERIOR

Bureau of Land Management

[MT-926-04-1420-BJ]

Montana: Filing of Plats of Amended Protraction Diagrams

AGENCY: Bureau of Land Management, Montana State Office, Interior.

ACTION: Notice of Filing of Plats of Amended Protraction Diagrams.

SUMMARY: The Bureau of Land Management (BLM) will file the plats of the amended protraction diagrams of the lands described below in the BLM Montana State Office, Billings, Montana, (30) days from the date of publication in the Federal Register.

FOR FURTHER INFORMATION CONTACT: Roger C. Baxter, Cadastral Surveyor, Branch of Cadastral Survey, Bureau of Land Management, 5001 Southgate Drive, P.O. Box 36800, Billings, Montana 59107-6800, telephone (406) 896-5009.

SUPPLEMENTARY INFORMATION: The amended protraction diagrams were prepared at the request of the U.S. Forest Service and are necessary to accommodate Revision of Primary Base Quadrangle Maps for the Geometronics Service Center.

The lands for the prepared amended protraction diagrams are:

Principal Meridian, Montana

Tps. 6, 7, 8, and 9 S., Rs. 8, 9, 10, 11, and 12 E.

The plat, representing the Amended Protraction Diagram 4 Index of unsurveyed Townships 6, 7, 8, and 9 South, Ranges 8, 9, 10, 11, and 12 East, Principal Meridian, Montana, was accepted August 12, 2004.

T. 6 S., R. 10 E.

The plat, representing Amended Protraction Diagram 4 of unsurveyed Township 6 South, Range 10 East, Principal Meridian, Montana, was accepted August 12, 2004.

T. 6 S., R. 11 E.

The plat, representing Amended Protraction Diagram 4 of unsurveyed Township 6 South, Range 11 East, Principal Meridian, Montana, was accepted August 12, 2004.

T. 6 S., R. 12 E.

The plat, representing Amended Protraction Diagram 4 of unsurveyed Township 6 South, Range 12 East, Principal Meridian, Montana, was accepted August 12, 2004.

T. 7 S., R. 8 E.

The plat, representing Amended Protraction Diagram 4 of unsurveyed Township 7 South, Range 8 East, Principal Meridian, Montana, was accepted August 12, 2004.

T. 7 S., R. 9 E.

The plat, representing Amended Protraction Diagram 4 of unsurveyed Township 7 South, Range 9 East, Principal Meridian, Montana, was accepted August 12, 2004.

T. 7 S., R. 10 E.

The plat, representing Amended Protraction Diagram 4 of unsurveyed Township 7 South, Range 10 East, Principal Meridian, Montana, was accepted August 12, 2004.

T. 7 S., R. 11 E.

The plat, representing Amended Protraction Diagram 4 of unsurveyed Township 7 South, Range 11 East, Principal Meridian, Montana, was accepted August 12, 2004.

T. 7 S., R. 12 E.

The plat, representing Amended Protraction Diagram 4 of unsurveyed Township 7 South, Range 12 East, Principal Meridian, Montana, was accepted August 12, 2004.

T. 8 S., R. 9 E.

The plat, representing Amended Protraction Diagram 4 of unsurveyed Township 8 South, Range 9 East, Principal Meridian, Montana, was accepted August 12, 2004.

T. 8 S., R. 10 E.

The plat, representing Amended Protraction Diagram 4 of unsurveyed Township 8 South, Range 10 East, Principal Meridian, Montana, was accepted August 12, 2004.

T. 8 S., R. 11 E.

The plat, representing Amended Protraction Diagram 4 of unsurveyed Township 8 South, Range 11 East, Principal Meridian, Montana, was accepted August 12, 2004.

T. 8 S., R. 12 E.

The plat, representing Amended Protraction Diagram 4 of unsurveyed Township 8 South, Range 12 East, Principal Meridian, Montana, was accepted August 12, 2004.

T. 9 S., R. 8 E.

The plat, representing Amended Protraction Diagram 4 of unsurveyed Township 9 South, Range 8 East, Principal Meridian, Montana, was accepted August 12, 2004.

T. 9 S., R. 9 E.

The plat, representing Amended Protraction Diagram 4 of unsurveyed Township 9 South, Range 9 East, Principal Meridian, Montana, was accepted August 12, 2004.

T. 9 S., R. 10 E.

The plat, representing Amended Protraction Diagram 4 of unsurveyed Township 9 South, Range 10 East, Principal Meridian, Montana, was accepted August 12, 2004.

T. 9 S., R. 11 E.

The plat, representing Amended Protraction Diagram 4 of unsurveyed Township 9 South, Range 11 East, Principal Meridian, Montana, was accepted August 12, 2004.

T. 9 S., R. 12 E.

The plat, representing Amended Protraction Diagram 4 of unsurveyed Township 9 South, Range 12 East, Principal Meridian, Montana, was accepted August 12, 2004.

Tps. 3, 4, and 5 S., Rs. 10, 11, and 12 E.

The plat, representing the Amended Protraction Diagram 5 Index of unsurveyed Townships 3, 4, and 5 South, Ranges 10, 11, and 12 East, Principal Meridian, Montana, was accepted August 13, 2004.

T. 3 S., R. 10 E.

The plat, representing Amended Protraction Diagram 5 of unsurveyed Township 3 South, Range 10 East, Principal Meridian, Montana, was accepted August 13, 2004.

T. 3 S., R. 11 E.

The plat, representing Amended Protraction Diagram 5 of unsurveyed Township 3 South, Range 11 East, Principal Meridian, Montana, was accepted August 13, 2004.

T. 4 S., R. 10 E.

The plat, representing Amended Protraction Diagram 5 of unsurveyed Township 4 South, Range 10 East, Principal Meridian, Montana, was accepted August 13, 2004.

T. 4 S., R. 11 E.

The plat, representing Amended Protraction Diagram 5 of unsurveyed Township 4 South, Range 11 East, Principal Meridian, Montana, was accepted August 13, 2004.

T. 4 S., R. 12 E.

The plat, representing Amended Protraction Diagram 5 of unsurveyed Township 4 South, Range 12 East, Principal Meridian, Montana, was accepted August 13, 2004.

T. 5 S., R. 10 E.

The plat, representing Amended Protraction Diagram 5 of unsurveyed Township 5 South, Range 10 East, Principal Meridian, Montana, was accepted August 13, 2004.

T. 5 S., R. 11 E.

The plat, representing Amended Protraction Diagram 5 of unsurveyed Township 5 South, Range 11 East, Principal Meridian, Montana, was accepted August 13, 2004.

T. 5 S., R. 12 E.

The plat, representing Amended Protraction Diagram 5 of unsurveyed Township 5 South, Range 12 East, Principal Meridian, Montana, was accepted August 13, 2004.

Tps. 7 and 9 N., Rs. 12 and 13 West

The plat, representing the Amended Protraction Diagram 18 Index of unsurveyed Townships 7 and 9 North, Ranges 12 and 13 West, Principal Meridian, Montana, was accepted August 11, 2004.

T. 7 N., R. 12 W.

The plat, representing Amended Protraction Diagram 18 of unsurveyed Township 7 North, Range 12 West, Principal Meridian, Montana, was accepted August 11, 2004.

T. 7 N., R. 13 W.

The plat, representing Amended Protraction Diagram 18 of unsurveyed Township 7 North, Range 13 West, Principal Meridian, Montana, was accepted August 11, 2004.

T. 9 N., R. 12 W.

The plat, representing Amended Protraction Diagram 18 of unsurveyed Township 9 North, Range 12 West, Principal Meridian, Montana, was accepted August 11, 2004.

Tps. 33, 34, 35, 36, and 37 N., Rs. 13, 14, 15, and 16 W.

The plat, representing the Amended Protraction Diagram 45 Index of unsurveyed Townships 33, 34, 35, 36, and 37 North, Ranges 13, 14, 15, and 16 West, Principal Meridian, Montana, was accepted July 14, 2004.

T. 33 N., R. 13 W.

The plat, representing Amended Protraction Diagram 45 of unsurveyed Township 33 North, Range 13 West, Principal Meridian, Montana, was accepted July 14, 2004.

T. 33 N., R. 14 W.

The plat, representing Amended Protraction Diagram 45 of unsurveyed Township 33 North, Range 14 West, Principal Meridian, Montana, was accepted July 14, 2004.

T. 33 N., R. 15 W.

The plat, representing Amended Protraction Diagram 45 of unsurveyed Township 33 North, Range 15 West, Principal Meridian, Montana, was accepted July 14, 2004.

T. 33 N., R. 16 W.

The plat, representing Amended Protraction Diagram 45 of unsurveyed Township 33 North, Range 16 West, Principal Meridian, Montana, was accepted July 14, 2004.

T. 34 N., R. 14 W.

The plat, representing Amended Protraction Diagram 45 of unsurveyed Township 34 North, Range 14 West, Principal Meridian, Montana, was accepted July 14, 2004.

T. 34 N., R. 15 W.

The plat, representing Amended Protraction Diagram 45 of unsurveyed Township 34 North, Range 15 West, Principal Meridian, Montana, was accepted July 14, 2004.

T. 34 N., R. 16 W.

The plat, representing Amended Protraction Diagram 45 of unsurveyed Township 34 North, Range 16 West, Principal Meridian, Montana, was accepted July 14, 2004.

T. 35 N., R. 14 W.

The plat, representing Amended Protraction Diagram 45 of unsurveyed Township 35 North, Range 14 West, Principal Meridian, Montana, was accepted July 14, 2004.

T. 35 N., R. 15 W.

The plat, representing Amended Protraction Diagram 45 of unsurveyed Township 35 North, Range 15 West, Principal Meridian, Montana, was accepted July 14, 2004.

T. 35 N., R. 16 W.

The plat, representing Amended Protraction Diagram 45 of unsurveyed Township 35 North, Range 16 West, Principal Meridian, Montana, was accepted July 14, 2004.

T. 36 N., R. 15 W.

The plat, representing Amended Protraction Diagram 45 of unsurveyed Township 36 North, Range 15 West, Principal Meridian, Montana, was accepted July 14, 2004.

T. 36 N., R. 16 W.

The plat, representing Amended Protraction Diagram 45 of unsurveyed Township 36 North, Range 16 West, Principal Meridian, Montana, was accepted July 14, 2004.

T. 37 N., R. 15 W.

The plat, representing Amended Protraction Diagram 45 of unsurveyed Township 37 North, Range 15 West, Principal Meridian, Montana, was accepted July 14, 2004.

T. 37 N., R. 16 W.

The plat, representing Amended Protraction Diagram 45 of unsurveyed Township 37 North, Range 16 West, Principal Meridian, Montana, was accepted July 14, 2004.

Tps. 33, 34, 35, 36, and 37 N., Rs. 17, 18, 19, and 20 W.

The plat, representing the Amended Protraction Diagram 46 Index of unsurveyed Townships 33, 34, 35, 36, and 37 North, Ranges 17, 18, 19, and 20 West, Principal Meridian, Montana, was accepted April 30, 2004.

T. 33 N., R. 17 W.

The plat, representing Amended Protraction Diagram 46 of unsurveyed Township 33 North, Range 17 West, Principal Meridian, Montana, was accepted April 30, 2004.

T. 33 N., R. 18 W.

The plat, representing Amended Protraction Diagram 46 of unsurveyed Township 33 North, Range 18 West, Principal Meridian, Montana, was accepted April 30, 2004.

T. 33 N., R. 19 W.

The plat, representing Amended Protraction Diagram 46 of unsurveyed Township 33 North, Range 19 West, Principal Meridian, Montana, was accepted April 30, 2004.

T. 33 N., R. 20 W.

The plat, representing Amended Protraction Diagram 46 of unsurveyed Township 33 North, Range 20 West, Principal Meridian, Montana, was accepted April 30, 2004.

T. 34 N., R. 17 W.

The plat, representing Amended Protraction Diagram 46 of unsurveyed Township 34 North, Range 17 West, Principal Meridian, Montana, was accepted April 30, 2004.

T. 34 N., R. 18 W.

The plat, representing Amended Protraction Diagram 46 of unsurveyed Township 34 North, Range 18 West, Principal Meridian, Montana, was accepted April 30, 2004.

T. 34 N., R. 19 W.

The plat, representing Amended Protraction Diagram 46 of unsurveyed Township 34 North, Range 19 West, Principal Meridian, Montana, was accepted April 30, 2004.

T. 34 N., R. 20 W.

The plat, representing Amended Protraction Diagram 46 of unsurveyed Township 34 North, Range 20 West, Principal Meridian, Montana, was accepted April 30, 2004.

T. 35 N., R. 17 W.

The Plat, representing Amended Protraction Diagram 46 of unsurveyed Township 35 North, Range 17 West, Principal Meridian, Montana, was accepted April 30, 2004.

T. 35 N., R. 18 W.

The Plat, representing Amended Protraction Diagram 46 of unsurveyed Township 35 North, Range 18 West, Principal Meridian, Montana, was accepted April 30, 2004.

T. 35 N., R. 19 W.

The Plat, representing Amended Protraction Diagram 46 of unsurveyed Township 35 North, Range 19 West, Principal Meridian, Montana, was accepted April 30, 2004.

T. 35 N., R. 20 W.

The Plat, representing Amended Protraction Diagram 46 of unsurveyed Township 35 North, Range 20 West, Principal Meridian, Montana, was accepted April 30, 2004.

T. 36 N., R. 17 W.

The Plat, representing Amended Protraction Diagram 46 of unsurveyed Township 36 North, Range 17 West, Principal Meridian, Montana, was accepted April 30, 2004.

T. 36 N., R. 18 W.

The Plat, representing Amended Protraction Diagram 46 of unsurveyed Township 36 North, Range 18 West, Principal Meridian, Montana, was accepted April 30, 2004.

T. 36 N., R. 19 W.

The Plat, representing Amended Protraction Diagram 46 of unsurveyed Township 36 North, Range 19 West, Principal Meridian, Montana, was accepted April 30, 2004.

T. 36 N., R. 20 W.

The Plat, representing Amended Protraction Diagram 46 of unsurveyed Township 36 North, Range 20 West, Principal Meridian, Montana, was accepted April 30, 2004.

T. 37 N., R. 17 W.

The Plat, representing Amended Protraction Diagram 46 of unsurveyed Township 37 North, Range 17 West, Principal Meridian, Montana, was accepted April 30, 2004.

T. 37 N., R. 18 W.

The Plat, representing Amended Protraction Diagram 46 of unsurveyed Township 37 North, Range 18 West, Principal Meridian, Montana, was accepted April 30, 2004.

T. 37 N., R. 19 W.

The Plat, representing Amended Protraction Diagram 46 of unsurveyed Township 37 North, Range 19 West, Principal Meridian, Montana, was accepted April 30, 2004.

T. 37 N., R. 20 W.

The Plat, representing Amended Protraction Diagram 46 of unsurveyed Township 37 North, Range 20 West, Principal Meridian, Montana, was accepted April 30, 2004.

We will place copies of the plats of the amended protraction diagrams we described in the open files. They will be available to the public as a matter of information.

If BLM receives a protest against these amended protraction diagrams, as shown on these plats, prior to the date of the official filings, we will stay the filings pending our consideration of the protest.

We will not officially file these plats of the amended protraction diagrams until the day after we have accepted or dismissed all protests and they have become final, including decisions or appeals.

Dated: September 21, 2004.
Thomas M. Deiling,
Chief Cadastral Surveyor, Division of Resources.

[FR Doc. 04-21642 Filed 9-27-04; 8:45 am]

BILLING CODE 4310-13-P